DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Association of American Railroads

[Docket Number FRA-2001-10654]

The Association of American Railroads (AAR) has petitioned, on behalf of its member railroads, for a permanent waiver of compliance from the requirements of the 49 CFR Federal Track Safety Standards part 213.143, Frog Guard Rails and Guard Faces; Gage. This requirement prescribes a minimum and maximum value for guard check and guard face gages, respectively. Guard check gage is the distance between the gage line of a frog and the guard line of its guard rail or guarding face. Allowable minimum guard check dimensions vary with track classification, i.e., train speed. FRA minimum safety standards permit a variation of 4-feet 6 ⅛-inches in Class 1 track, 4-feet 6 ¼-inches in Class 2 track, 4-feet 6 ⅜-inches in Class 3 and 4 track, and 4-feet 6 ½-inches in Class 5 and above track.

The AAR petition seeks relief from the guard check requirements for Class 5 track for a particular type of frog design called a “heavy-point” frog. The AAR seeks a waiver for its member railroads permitting application of the minimum guard check for Class 3 and 4 track to Class 5 track when through gage plates are used to control the movement of a “heavy-point” frog relative to its guard rails.

The heavy-point frog is a unique design, which has a thicker frog point. The AAR states that it offers safety benefits over a traditional frog because there is more insert mass to reduce metal fatigue from impact loading, greater durability, reduced susceptibility to point rollover, and better ability to guide the wheel flange toward the proper flangeway. Heavy-point frog insert design characteristics gradually widen to 31/32-inch (0.9688) overall, resulting in the heavy-point frog insert point being thicker at the actual ⅝-inch (0.6250) frog point gage lines. The gage line is actually 11/32 (0.3438) thicker than a traditional ⅝-inch (0.6250) RBM frog point. Heavy-point frogs reduce standard guard check distance from 4-feet 6⅝ (54.6250) inches to 4-feet 6 29/64 inches (54.4531) which does not comply with minimum safety standards for Class 5 track.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-10654) and must be submitted in triplicate to the Docket Clerk, DOT Central Docket Management Facility, Room PL-401, Washington, DC, 20590-0001. Communications received within 45 days of the date of this notice will be considered by FRA before final action is taken. Comments received after that date will be considered as far as practicable. All written communications concerning these proceedings are available for examination during regular business hours (9:00 a.m.—5:00 p.m.) at above facility. All documents in the public docket are also available for inspection and copying on the Internet at the docket facility's Web site at http: //dms.dot.gov.

Issued in Washington, DC, on November 27, 2001.
Grady C. Cothen, Jr.,
Deputy Associate Administrator for Safety Standards and Program Development.

[FR Doc. 01-29882 Filed 11-30-01; 8:45 am]

BILLING CODE 4910-06-P